DEPARTMENT OF THE INTERIOR

Bureau of Land Management

[18X LLWO600000.L18200000.XP0000]

National Call for Nominations for Site-specific Advisory Councils

AGENCY: Bureau of Land Management, Interior.

ACTION: Notice of call for nominations.

SUMMARY: The purpose of this notice is to request public nominations for five Bureau of Land Management (BLM) citizens' advisory councils affiliated with specific sites on the BLM's National Conservation Lands and for the North Slope Science Initiative (NSSI) Science Technical Advisory Panel (STAP). The five advisory councils provide advice and recommendations to the BLM on the development and implementation of management plans in accordance with the statutes under which the sites were established, and the STAP advises the NSSI Oversight Group on technical issues such as identifying and prioritizing inventory, monitoring, and research needs across the North Slope of Alaska and the adjacent marine environment.

DATES: All nominations must be received no later than June 14, 2019.

ADDRESSES: Nominations and completed applications should be sent to the appropriate BLM offices listed in the SUPPLEMENTARY INFORMATION section of this notice.

FOR FURTHER INFORMATION CONTACT: Carrie Richardson, BLM Office of Communications, 1849 C Street NW, Room 5614, Washington, DC 20240; Phone: 202-501-2634, email: crichardson@blm.gov. Persons who use a telecommunications device for the deaf (TDD) may call the Federal Relay Service (FRS) at 1-800-877-8339 to contact Ms. Richardson during normal business hours. The FRS is available 24 hours a day, 7 days a week, to leave a message or question. You will receive a reply during normal business hours.

SUPPLEMENTARY INFORMATION: The Federal Land Policy and Management Act (FLPMA) directs the Secretary of the Interior to involve the public in planning and issues related to management of lands administered by the BLM. Section 309 of FLPMA (43 U.S.C. 1739) directs the Secretary to establish 10- to 15-member citizen-based advisory councils that are consistent with the Federal Advisory Committee Act. The rules governing RACs are found at 43 CFR subpart 1784.

Individuals may nominate themselves or others for appointment by the Secretary. Nominees must be residents of the State in which the advisory council has jurisdiction. The BLM will evaluate nominees based on their education, training, experience, and knowledge of the geographic area of the advisory council. Nominees should demonstrate a commitment to collaborative resource decision-making.

Simultaneous with this notice, BLM State Offices will issue press releases providing additional information for submitting nominations.

Before including any address, phone number, email address, or other personal identifying information in the application, nominees should be aware this information may be made publicly available at any time. While the nominee can ask to withhold the personal identifying information from public review, the BLM cannot guarantee that it will be able to do so.

Alaska

North Slope Science Initiative Science Technical Advisory Panel (STAP)

Lisa Gleason, BLM Office of Communications, North Slope Science Initiative, 222 West Seventh Avenue, #13, Anchorage, AK 99513; Phone: 907-271-3335.

To Apply to the STAP: Nomination forms and instructions can be obtained online at http://www.northslopescience.org or from the Office of Communications, North Slope Science Initiative. All nominations must be accompanied by letters of reference that describe the nominee's experience and qualifications to serve on the STAP from any represented interests or organizations, a completed STAP application, and any other information that speaks to the nominee's qualifications. The STAP consists of members representing 12 science disciplines from diverse professions and interests, including the oil and gas industry, subsistence users, Native Alaskan entities, conservation organizations, wildlife management organizations, and academia.

California

California Desert District Advisory Council (DAC)

Sarah Webster, BLM California State Office, 2800 Cottage Way, W-1623,

Sacramento, CA 95825; Phone: 916-978-4622.

To Apply to the DAC: Nomination forms and instructions can be obtained online at https://www.blm.gov/sites/blm.gov/files/get-involved-rac-near-you-california-california-desert-district-DAC_Nomination.pdf.

All applications must be accompanied by letters of reference that describe the nominee's experience and qualifications to serve on the DAC from any represented interests or organizations, a completed DAC application, and any other information that speaks to the nominee's qualifications. The DAC consists of members who represent stakeholder interests in public land management, such as conservationists, outdoor recreationists, ranchers, industry officials, tribal leaders, state and local government officers, academics, and others.

Carrizo Plain National Monument Advisory Council (MAC)

Serena Baker, BLM Mother Lode Field Office, 5152 Hillsdale Circle, El Dorado Hills, CA 95762; Phone: 916-941-3146.

To Apply to the Carrizo Plain MAC: Nomination forms and instructions can be obtained by request from sbaker@blm.gov. All applications must be accompanied by letters of reference that describe the nominee's experience and qualifications to serve on the Carrizo Plain MAC from any represented interests or organizations, a completed MAC application, and any other information that speaks to the nominee's qualifications. The MAC consists of members representative of the San Luis Obispo County Board of Supervisors, the Kern County Board of Supervisors, the Carrizo Native American Advisory Committee, the BLM's Central California Resource Advisory Council, those authorized to graze livestock within the National Monument, and the public-at-large. The MAC consists of members that have expertise through education or practical experience in matters relating to the purposes for which the Monument was established, including planning, cultural resource protection, natural resource management, and similar disciplines.

Oregon/Washington

Steens Mountain Advisory Council (SMAC)

Tara Thissell, BLM Burns District Office, 28910 Hwy 20 West, Hines, OR 97738; Phone: 541-573-4519.

To Apply to the SMAC: Nomination forms and instructions can be obtained by mail through phone request or online at https://on.doi.gov/2opFACz. All applications must be accompanied by letters of reference that describe the nominee's experience and qualifications to serve on the SMAC from any represented interests or organizations, a completed SMAC application, and any other information that speaks to the nominee's qualifications. The SMAC consists of members that are representative of the varied groups with an interest in the management of the Steens Mountain Cooperative Management and Protection Area, and include the following membership categories: State environmental representative; local environmental representative; Burns Paiute Tribe; representative of the general public (with no Cooperative Management and Protection Area financial interest); recreational permit holder; private landowner; grazing permittee; fish and recreational fishing; dispersed recreation; mechanized or consumptive recreation; and wild horse management.

San Juan Islands National Monument Advisory Committee (MAC)

Marcia de Chadenedes, BLM San Juan Islands National Monument, P.O. Box 3, 37 Washburn Avenue, Lopez Island, WA 98261; Phone: 360-468-3051.

To Apply to the San Juan Islands MAC: Nomination forms and instructions can be obtained online at https://www.blm.gov/sites/blm.gov/files/sanjuan-mac-app.pdf. All applications must be accompanied by letters of reference that describe the nominee's experience and qualifications to serve on the San Juan Islands MAC from any represented interests or organizations, a completed MAC application, and any other information that speaks to the nominee's qualifications. The MAC consists of members that represent recreation, tourism, wildlife, cultural resources, education, and local government and private landowners interests, as well as concerns of the local tribes and public-at-large.

Utah

Grand Staircase-Escalante National Monument Advisory Committee (MAC)

Harry Barber, BLM Grand Staircase-Escalante National Monument, 669 South Highway 89A, Kanab, UT 84741; Phone: 435-644-1271.

To Apply to the Grand Staircase-Escalante MAC: Nomination forms and instructions are available online at https://www.blm.gov/sites/blm.gov/files/GetInvolved_RACApplication.pdf. Nominees should note the interest area(s) they are applying to represent on their application. All applications must be accompanied by letters of reference that describe the nominee's experience and qualifications to serve on the Grand Staircase-Escalante MAC from any represented interests or organizations, a completed MAC application, and any other information that speaks to the nominee's qualifications. The MAC consists of members that represent archaeology, paleontology, geology, botany, wildlife biology, history, social science, systems ecology, Garfield and Kane Counties, tribal government, education, environment, commercial recreation, and grazing.

(Authority: 43 CFR 1784.4-1)

Tara Rigler,
Assistant Director for Communications.

[FR Doc. 2019-08724 Filed 4-29-19; 8:45 am]

BILLING CODE 4310-84-P